DEPARTMENT OF HEALTH AND HUMAN SERVICES

National Institutes of Health

National Institute of Biomedical Imaging and Bioengineering; Amended Notice of Meeting

Notice is hereby given of a change in the meeting of the National Institute of Biomedical Imaging and Bioengineering National Advisory Council, May 18, 9:00 a.m., The William F. Bolger Center, Franklin Building, Classroom 1, 9600 Newbridge Drive, Potomac, MD 20854, which was published in the Federal Register on March 17, 2015, 80FR13863.

The meeting notice is amended to change the start time from 9:00 a.m. to 8:30 a.m.

Dated: April 22, 2015.
David Clary,
Program Analyst, Office of Federal Advisory Committee Policy.

[FR Doc. 2015-09779 Filed 4-27-15; 8:45 am]

BILLING CODE 4140-01-P